NUCLEAR REGULATORY COMMISSION

[Docket No. 50-184]

National Institute of Standards and Technology, National Bureau of Standards Reactor; Notice of Intent To Prepare an Environmental Impact Statement and Conduct Scoping Process

The National Institute of Standards and Technology (NIST), formerly known as the National Bureau of Standards, has submitted an application for renewal of Facility Operating License No. TR-5 for an additional 20 years of operation at the National Bureau of Standards Reactor (NBSR). The NBSR is located in Montgomery County in Maryland, about 20 miles northwest of Washington, DC. The operating license for the NBSR expired on May 16, 2004. The application for license renewal, which included an environmental report (ER), was received on April 9, 2004. A notice of receipt and availability of the application was published in the Federal Register on May 12, 2004 (69 FR 26414). A notice of acceptance for docketing of the application and a notice of opportunity for hearing regarding renewal of the facility operating licenses was published in the Federal Register on September 21, 2004 (69 FR 56462). The purpose of this notice is to inform the public that the U.S. Nuclear Regulatory Commission (NRC) will be preparing an environmental impact statement (EIS) in support of the review of the license renewal application and to provide the public an opportunity to participate in the environmental scoping process, as defined in 10 CFR 51.29. In addition, as outlined in 36 CFR 800.8, “Coordination with the National Environmental Policy Act,” the NRC plans to coordinate compliance with Section 106 of the National Historic Preservation Act in meeting the requirements of the National Environmental Policy Act of 1969 (NEPA).

In accordance with 10 CFR 50.20 and 10 CFR 51.45, NIST submitted the ER as part of the application. The ER was prepared pursuant to 10 CFR part 51 and is available for public inspection at the NRC Public Document Room (PDR), located at One White Flint North, 11555 Rockville Pike (first floor), Rockville, Maryland 20852, or from the Publicly Available Records component of NRC's Agencywide Documents Access and Management System (ADAMS). ADAMS is accessible at http://www.nrc.gov/reading-rm/adams.html, which provides access through the NRC's Electronic Reading Room link. Persons who do not have access to ADAMS, or who encounter problems in accessing the documents located in ADAMS, should contact the NRC's PDR Reference staff at 1-800-397-4209, or (301) 415-4737, or by e-mail to pdr@nrc.gov.

This notice advises the public that the NRC intends to gather the information necessary to prepare an EIS documenting the staff's environmental review of the application for renewal of the NBSR operating license for an additional 20 years. Alternatives to the proposed action (license renewal), including the no-action alternative will be considered. The NRC is required by 10 CFR 51.20(b)(2) to prepare an EIS in connection with the renewal of the operating license for a testing facility. This notice is being published in accordance with NEPA and the NRC's regulations found in 10 CFR part 51.

The NRC will first conduct a scoping process for the EIS and, as soon as practicable thereafter, will prepare a draft EIS for public comment. Participation in the scoping process by members of the public and local, State, tribal, and Federal government agencies is encouraged. The scoping process for the EIS will be used to accomplish the following:

a. Define the proposed action which is to be the subject of the EIS;

b. Determine the scope of the EIS and identify the significant issues to be analyzed in depth;

c. Identify and eliminate from detailed study those issues that are peripheral or that are not significant;

d. Identify any environmental assessments and other EISs that are being or will be prepared that are related to, but are not part of the scope of the EIS being considered;

e. Identify other environmental review and consultation requirements related to the proposed action;

f. Indicate the relationship between the timing of the preparation of the environmental analyses and the Commission's tentative planning and decisionmaking schedule;

g. Identify any cooperating agencies and, as appropriate, allocate assignments for preparation and schedules for completing the EIS to the NRC and any cooperating agencies; and

h. Describe how the EIS will be prepared, and include any contractor assistance to be used.

The NRC invites the following entities to participate in scoping:

a. The applicant, the National Institute of Standards and Technology;

b. Any Federal agency that has jurisdiction by law or special expertise with respect to any environmental impact involved, or that is authorized to develop and enforce relevant environmental standards;

c. Affected State and local government agencies, including those authorized to develop and enforce relevant environmental standards;

d. Any affected Indian tribe;

e. Any person who requests or has requested an opportunity to participate in the scoping process; and

f. Any person who has petitioned or intends to petition for leave to intervene.

Members of the public may send written comments on the environmental scope of the NBSR license renewal review to the Chief, Rules and Directives Branch, Division of Administrative Services, Office of Administration, Mailstop T-6D59, U.S. Nuclear Regulatory Commission, Washington, DC 20555-0001, and should cite the publication date and page number of this Federal Register notice. Comments may also be delivered to the NRC, Room T-6D59, Two White Flint North, 11545 Rockville Pike, Rockville, Maryland, from 7:30 a.m. to 4:15 p.m. during Federal workdays. To be considered in the scoping process, written comments should be postmarked no later than 60 days after the date of this Notice. Electronic comments may be sent by e-mail to the NRC at NBSReactorEIS@nrc.gov and should be sent no later than 60 days from the date of this Notice, to be considered in the scoping process. No public scoping meeting is planned. Comments will be available electronically and accessible through ADAMS at http://www.nrc.gov/reading-rm/adams.html. Participation in the scoping process for the EIS does not entitle participants to become parties to the proceeding to which the EIS relates. Notice of opportunity for a hearing regarding the renewal application was the subject of the aforementioned Federal Register notice (69 FR 56462).

At the conclusion of the scoping process, the NRC will prepare a concise summary of the determination and conclusions reached, including the significant issues identified, and will send a copy of the summary to each participant in the scoping process. The summary will also be available for inspection in ADAMS at http://www.nrc.gov/reading-rm/adams.html. The staff will then prepare and issue for comment the draft EIS, which will be the subject of a separate notice. Copies will be available for public inspection at the above-mentioned addresses, and one copy per request will be provided free of charge. After receipt and consideration of the comments, the NRC will prepare a final EIS, which will also be available for public inspection.

Information about the proposed action, the EIS, and the scoping process may be obtained from NRC Environmental Project Manager, Mr. James H. Wilson, at (301) 415-1108, or via e-mail at jhw1@nrc.gov.

Dated at Rockville, Maryland, this 23rd day of September 2005.
For the Nuclear Regulatory Commission.
Brian E. Thomas,
Section Chief, Research and Test Reactors Section, New, Research and Test Reactors Program, Division of Regulatory Improvement Programs, Office of Nuclear Reactor Regulation.

[FR Doc. E5-5316 Filed 9-28-05; 8:45 am]

BILLING CODE 7590-01-P